ENVIRONMENTAL PROTECTION AGENCY

40 CFR Part 60

[FRL-6717-4]

Approval and Promulgation of State Plans for Designated Facilities and Pollutants; Colorado, Montana, South Dakota, Utah, Wyoming; Control of Emissions From Existing Hospital/Medical/Infectious Waste Incinerators

AGENCY: Environmental Protection Agency (EPA).

ACTION: Proposed rule.

SUMMARY: We are proposing to approve the Colorado, Montana, South Dakota, Utah, and Wyoming State Plans for control of air emissions from existing Hospital/Medical/Infectious Waste Incinerators (HMIWI). The plans provide for implementation and enforcement of the Emissions Guidelines applicable to each existing HMIWI for which construction was commenced on or before June 20, 1996. In the Final Rules section of this Federal Register, EPA is approving the State's Plans, as a direct final rule without prior proposal because the Agency views these as a noncontroversial actions and anticipates no adverse comments. A detailed rationale for the approvals is set forth in the direct final rule. If we receive no adverse comments in response to that direct final rule, we plan to take no further activity in relation to this proposed rule. If EPA receives significant adverse comments, in writing, which have not been addressed, we will withdraw the direct final rule and address all public comments received in a subsequent final rule based on this proposed rule. The EPA will not institute a second comment period on this action. Any parties interested in commenting on this action should do so at this time. Please see the direct final rule of this action located elsewhere in today's Federal Register for detailed descriptions of the Colorado, Montana, South Dakota, Utah, and Wyoming State Plans.

DATES: We must receive comments on this proposed rule by July 24, 2000.

ADDRESSES: Send written comments to: Richard R. Long, EPA Region 8, Office of Air and Radiation (8P-AR), 999 18th Street, Suite 500, Denver, Colorado 80202.

You may inspect copies of the documents relevant to this action during normal business hours at the following location: EPA Region 8 offices, 999 18th Street, Suite 500, Denver, Colorado 80202. Please contact Meredith Bond at (303) 312-6438 before visiting the Region 8 office.

Copies of the State documents relevant to this action are available for public inspection at the respective State offices:

1. Colorado—Air Pollution Control Division, Department of Public Health and Environment, 4300 Cherry Creek Drive South, Denver, Colorado 80222-1530.

2. Montana—Department of Environmental Quality, 1520 East 6th Avenue, P.O. Box 200901, Helena, Montana 59620-0901.

3. South Dakota—Department of Environment and Natural Resources, Joe Foss Building, 523 East Capitol, Pierre, South Dakota 57501-3181.

4. Utah—Division of Air Quality, Department of Environmental Quality, 150 North 1950 West, P.O. Box 144820, Salt Lake City, Utah 84114-4820.

5. Wyoming—Department of Environmental Quality, Herschler Building, 122 West 25th Street, Cheyenne, Wyoming 82002.

Interested persons wanting to examine these documents should make an appointment with the appropriate office at least 24 hours before the visiting day.

FOR FURTHER INFORMATION CONTACT: Meredith Bond, EPA Region 8, Air and Radiation Program, at the above address, telephone (303) 312-6438.

SUPPLEMENTARY INFORMATION: This Supplementary Information section is organized as follows:

A. What Action is EPA Taking Today?

B. Where Can I Find More Information About This Proposal and the Corresponding Direct Final Rule?

A. What Action Is EPA Taking Today?

In this action, we are proposing to approve the Colorado, Montana, South Dakota, Utah, and Wyoming State Plans for control of air emissions from existing Hospital/Medical/Infectious Waste Incinerators (HMIWI). The plans provide for implementation and enforcement of the Emissions Guidelines applicable to each existing HMIWI for which construction was commenced on or before June 20, 1996.

B. Where Can I Find More Information About This Proposal and the Corresponding Direct Final Rule?

For additional information see the direct final rule published in the rules section of this Federal Register.

Dated: June 2, 2000.
Rebecca W. Hanmer,
Acting Regional Administrator, Region VIII.

[FR Doc. 00-15293 Filed 6-21-00; 8:45 am]

BILLING CODE 6560-50-P